ENVIRONMENTAL PROTECTION AGENCY

[EPA-HQ-OPP-2014-0446; FRL-9913-45]

Agency Information Collection Activities; Proposed Collection; Comment Request

AGENCY: Environmental Protection Agency (EPA).

ACTION: Notice.

SUMMARY: In compliance with the Paperwork Reduction Act (PRA), this document announces that EPA is planning to submit an Information Collection Request (ICR) to the Office of Management and Budget (OMB). The ICR, entitled: Certification of Pesticide Applicators and identified by EPA ICR No. 0155.12 and OMB Control No. 2070-0029, represents the renewal of an existing ICR that is scheduled to expire on February 28, 2015. Before submitting the ICR to OMB for review and approval, EPA is soliciting comments on specific aspects of the proposed information collection that is summarized in this document. The ICR and accompanying material are available in the docket for public review and comment.

DATES: Comments must be received on or before September 22, 2014.

ADDRESSES: Submit your comments, identified by docket identification (ID) number EPA-HQ-OPP-2014-0446, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Lily G. Negash, Field & External Affairs Division (MC 7506P), Office of Pesticide Programs, Environmental Protection Agency, 1200 Pennsylvania Ave. NW., Washington, DC 20460-0001; telephone number: (703) 347-8515; email address: negash.lily@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Certification of Pesticide Applicators.

ICR number: EPA ICR No. 0155.12.

OMB control number: OMB Control No. 2070-0029.

ICR status: This ICR is currently scheduled to expire on February 28, 2015. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This ICR addresses the paperwork activities performed by States, Indian tribes, federal agencies and individuals to fulfill competency requirements for restricted use pesticide (RUP) applicators. Because of their potential to harm human health or the environment, RUPs may be purchased and applied only by a “certified applicator” or by a person under the direct supervision of a certified applicator. This ICR addresses instances in which registrants of certain pesticide products are required to perform specific paperwork activities, such as training and recordkeeping, as a condition of the pesticide registration (e.g., registrants of pesticide products that assert claims to inactivate Bacillus anthracis (anthrax) spores). To become a certified applicator, a person must meet certain standards of competency through completion of a certification program or test. EPA administers certification programs for pesticide applicators under section 11 of the Federal Insecticide, Fungicide, and Rodenticide Act (FIFRA) and EPA regulation 40 CFR part 171. Authorized agencies administer certified applicator programs within their jurisdictions, but each agency's certification plan must be approved by EPA before it can be implemented. In areas where no authorized agency has jurisdiction, EPA may administer a certification program directly.

This ICR also addresses how registrants of certain pesticide products are expected to perform specific, special paperwork activities, such as training and recordkeeping, in order to comply with the terms and conditions of the pesticide registration (e.g., registrants of anthrax-related pesticide products that assert claims to inactivate Bacillus anthracis spores). Paperwork activities associated with the use of such products are conveyed specifically as a condition of the registration.

Burden statement: The annual public reporting and recordkeeping burden for this collection of information is estimated to average, per response type, as follows: 4,409 hours—annual reporting of authorized agencies on certification programs; 470 hours for completing certification application forms in Indian country; 121 hours for optional training—private applicator in Indian country; 10,044 hours RUP application recordkeeping—commercial applicators in the Federal plan; 1,305,100 hours RUP application records—commercial applicators under authorized agencies; 19.5 hours RUP sales recordkeeping—dealers in Indian country to prepare and maintain required annual RUP use records; 3.33 hours for dealerships to report or change their dealership information; 50 hours for registrants of anthrax-related products to prepare and conduct training activities; and 37 hours for registrants of anthrax-related products to keep records. Burden is defined in 5 CFR 1320.3(b).

The ICR, which is available in the docket along with other related materials, provides a detailed explanation of the collection activities and the burden estimate that is only briefly summarized here:

Respondents/Affected Entities: Entities potentially affected by this ICR are pesticide applicators, administration of certification programs by States/Tribal lead agencies, individuals or entities engaged in activities related to the registration of a pesticide product, and RUP dealers (only for EPA-administered programs).

Estimated total number of potential respondents: Per response type, average annual respondents are: 57 authorized agencies report on certification programs; 2,767 applicants complete a certification form under the Federal plan; 10 private applicators complete the optional training under the Federal plan; 3,240 commercial applicators keep records of RUP applications under the Federal plan; 421,000 commercial applicators keep records of RUP application under authorized agencies' plan; 10 dealers of RUPs keep records of RUP transactions in Indian country; 3.33 dealerships report or change their dealership information; two registrants of anthrax-related products prepare and conduct training activities; and two registrants of anthrax-related products keep records.

Frequency of response: Annual.

Estimated total average number of responses for each respondent: Varies.

Estimated total annual burden hours: 1,320,254 hours.

Estimated total annual costs: $42,637,864.99. This includes an estimated burden cost of $42,637,864.99 and an estimated cost of $0 for capital investment or maintenance and operational costs.

III. Are there changes in the estimates from the last approval?

There is a decrease of 415 hours in the total estimated respondent burden compared with that identified in the ICR currently approved by OMB. This decrease reflects EPA's updating of burden estimates, addition of a recently-implemented optional, voluntary offering, and a change in the number of entities whose certification programs are directly overseen by EPA. This change is both an adjustment and the result of a program change.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

List of Subjects

Environmental protection, Reporting and recordkeeping requirements.

Dated: July 18, 2014.
James Jones,
Assistant Administrator, Office of Chemical Safety and Pollution Prevention.

[FR Doc. 2014-17473 Filed 7-23-14; 8:45 am]

BILLING CODE 6560-50-P